DEPARTMENT OF THE TREASURY

Agency Information Collection Activities; Submission for OMB Review; Comment Request; Multiple Fiscal Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before December 28, 2020 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Fiscal Service (FS)

1. Title: Generic Clearance for the Collection of Qualitative Feedback on Agency Service Delivery.

OMB Control Number: 1530-0023.

Type of Review: Extension without change of a currently approved collection.

Description: The Bureau of the Fiscal Service conducts various surveys, focus groups, and interviews to assess the effectiveness and efficiency of existing products and services; to obtain knowledge about the potential public audiences attracted to new products being introduced; and to measure awareness and appeal of efforts to reach audiences and customers.

Form: None.

Affected Public: Individuals or Households.

Estimated Number of Respondents: 75,000.

Frequency of Response: On Occasion.

Estimated Total Number of Annual Responses: 75,000.

Estimated Time per Response: 10 minutes.

Estimated Total Annual Burden Hours: 12,000 hours.

2. Title: U.S. Treasury Auction Submitter Agreement.

OMB Control Number: 1530-0056.

Type of Review: Revision of a currently approved collection.

Description: The information is requested from entities wishing to participate in U.S. Treasury Securities auctions via the Treasury Automated Auction Processing System (TAAPS).

Form: FS Form 5441 and FS Form 5441-2.

Affected Public: Businesses or other for-profit institutions.

Estimated Number of Respondents: 1,050.

Frequency of Response: On occasion.

Estimated Total Number of Annual Responses: 1,050.

Estimated Time per Response: 5 minutes.

Estimated Total Annual Burden Hours: 88 hours.

Authority: 44 U.S.C. 3501 et seq.

Dated: November 20, 2020.
Molly Stasko,
Treasury PRA Clearance Officer.

[FR Doc. 2020-26085 Filed 11-24-20; 8:45 am]

BILLING CODE 4810-AS-P